DEPARTMENT OF TRANSPORTATION

Surface Transportation Board

[STB Finance Docket No. 30186 (Sub-No. 3)]

Tongue River Railroad Co.—Construction and Operation—Western Alignment

AGENCY: Surface Transportation Board, Transportation.

ACTION: Notice of Decision Allowing Supplemental Pleadings To Be Filed in Construction and Operation Application.¹

¹ Notice of this application and an initial procedural schedule were published in the Federal Register on June 23, 1998.

SUMMARY: The Board is giving notice that it is allowing the Tongue River Railroad Company (TRRC) to supplement its application,² filed on April 27, 1998, to construct and operate 17.3 miles of track, called the Western Alignment, to be built between Decker, MT, and a point 17.3 miles north of Decker. The track would connect with a rail line previously approved for construction in Tongue River Railroad Company—Rail Construction and Operation—Ashland to Decker, Montana, Finance Docket No. 30186 (Sub-No. 2) (STB served Nov. 8, 1996) (Tongue River II). The proceeding has been held in abeyance at applicant's request since March 2, 2000. The Board will permit TRRC to tender supplemental evidence. The Board will establish a procedural schedule for replies after TRRC has filed its evidence and the agency has had an opportunity to review it.

² The supplemental information TRRC submits will not address any of the environmental issues raised in this proceeding. These matters will be considered separately in the environmental review process, which will be conducted by the Board's Section of Environmental Analysis (SEA). SEA intends to reinstitute shortly the environmental review process by publishing an appropriate notice in the Federal Register.

DATES: The Board's decision is effective on March 11, 2003.

ADDRESSES: Send an original and 10 copies of all pleadings referring to STB Finance Docket No. 30186 (Sub-No. 3) to: Surface Transportation Board, 1925 K Street, NW., Washington, DC 20423-0001. All filings must be concurrently served on all parties of record and TRRC's representative: Betty Jo Christian, Esq., Steptoe & Johnson LLP, 1330 Connecticut Avenue, NW., Washington, DC 20036, (202) 429-3000, FAX (202) 429-3902.

FOR FURTHER INFORMATION CONTACT: Joseph H. Dettmar, (202) 565-1600. [Federal Relay Information Service (FIRS) for the hearing impaired: 1-800-877-8339.]

Copies of the application are available for public inspection at the offices of either the Surface Transportation Board or the applicant, Tongue River Railroad Company, 550 North 31st Street, Suite 250, P.O. Box 1181, Billings, MT 59102.

Board decisions and notices are available on our Web site at http://www.stb.dot.gov.

This decision will not significantly affect either the quality of the human environment or the conservation of energy resources.

Decided: March 10, 2003.
By the Board, Chairman Nober, Vice Chairman Burkes, and Commissioner Morgan.
Vernon A. Williams,
Secretary.

[FR Doc. 03-6176 Filed 3-13-03; 8:45 am]

BILLING CODE 4915-00-P